ENVIRONMENTAL PROTECTION AGENCY

[EPA-HQ-OPPT-2021-0068; FRL-10020-58]

Certain New Chemicals; Receipt and Status Information for January 2021

AGENCY: Environmental Protection Agency (EPA).

ACTION: Notice.

SUMMARY: The Toxic Substances Control Act (TSCA) requires EPA to make information publicly available and to publish information in the Federal Register pertaining to submissions under TSCA, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 01/01/2021 to 01/31/2021.

DATES: Comments identified by the specific case number provided in this document must be received on or before March 25, 2021.

ADDRESSES: Submit your comments, identified by docket identification (ID) number EPA-HQ-OPPT-2021-0068 and the specific case number for the chemical substance related to your comment, by using the Federal eRulemaking Portal at http://www.regulations.gov. Follow the online instructions for submitting comments. Do not submit electronically any information you consider to be Confidential Business Information (CBI) or other information whose disclosure is restricted by statute.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT:

For technical information contact: Jim Rahai, Project Management and Operations Division (MC 7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 01/01/2021 to 01/31/2021. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the TSCA section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under TSCA, 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory please go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the TSCA section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission or an amendment, along with a notation of which version was received; the date the notice was received by EPA; the submitting manufacturer (i.e., domestic producer or importer); the potential uses identified by the manufacturer in the notice; and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved * From 01/01/2021 to 01/31/2021
Case No. | Version | Received date | Manufacturer | Use | Chemical substance
J-21-0007 | 1 | 12/21/2020 | CBI | (G) Ethanol production | (G) Biofuel producing Saccharomyces cerevisiae modified, genetically stable.
J-21-0008 | 1 | 12/21/2020 | CBI | (G) Ethanol production | (G) Biofuel producing Saccharomyces cerevisiae modified, genetically stable.
J-21-0009 | 1 | 12/21/2020 | CBI | (G) Ethanol production | (G) Biofuel producing Saccharomyces cerevisiae modified, genetically stable.
P-16-0592A | 6 | 01/08/2021 | Santolubes Manufacturing LLC | (S) This low viscosity diester will be blended with a higher viscosity ester to make a high efficiency gear lubricant primarily for worm gear applications | (S) Fatty acids, C8-C10, diesters with alpha-hydro-w-hydroxypoly(oxy-1,4-butanediyl).
P-16-0592A | 7 | 01/13/2021 | Santolubes Manufacturing LLC | (S) This low viscosity diester will be blended with a higher viscosity ester to make a high efficiency gear lubricant primarily for worm gear applications | (S) Fatty acids, C8-C10, diesters with alpha-hydro-w-hydroxypoly(oxy-1,4-butanediyl).
P-18-0153A | 4 | 01/27/2021 | CBI | (G) Mixed metal oxide for batteries | (G) Lithium mixed metal oxide.
P-18-0273A | 3 | 01/04/2021 | CBI | (G) Used in polymer manufacturing. | (S) 1,4-Cyclohexanedicarboxylic acid, 1,4-bis(2-ethylhexyl) ester.
P-18-0326A | 9 | 01/14/2021 | CBI | (G) Chemical Intermediate | (G) Alkanoic acid, alkyl ester, manuf. of, byproducts from, distn. residues.
P-18-0349A | 6 | 12/31/2020 | Lanxess Solutions US Inc | (S) Two component adhesives and protective coatings for marine, infrastructure, etc. The urethane prepolymer is designed to react with epoxy materials to create a flexible coating or adhesive | (S) Oxirane, 2-methyl-, polymer with oxirane, ether with 1,2,3-propanetriol (3:1), polymer with 2,4-diisocyanato-1-methylbenzene, branched 4-nonylphenol-blocked.
P-19-0098A | 3 | 01/07/2021 | Clariant Corporation | (S) Flame retardant additive for intumescent coatings | (G) Phosphoric acid, polymer with (hydroxyalkyl)-alkanediol and alkanediol.
P-19-0122A | 3 | 01/27/2021 | CBI | (G) Reactant monomer in a polymer for industrial use | (G) 2-propenoic acid, 2-(hydrogenated animal-based nitrogen-substituted) ethyl ester.
P-20-0010A | 12 | 01/21/2021 | CBI | (G) Polymerization auxiliary | (G) Carboxylic acid, reaction products with metal hydroxide, inorganic dioxide and metal.
P-20-0030A | 4 | 01/26/2021 | CBI | (S) Plasticizer for Plastisols, Plasticizer in caulks and sealants | (G) Hexanedioic acid, carbomonocyclic esters.
P-20-0036A | 4 | 01/12/2021 | Sigma-Aldrich Co. LLC | (G) Used in the manufacture of Lithium-6 Chloride | (S) Carbonic acid, di(lithium-6Li) salt.
P-20-0071A | 8 | 01/13/2021 | CBI | (G) Colorant | (G) Salt of 2-Naphthalenesulfonic acid, hydroxy [(methoxy-methyl-4-sulfophenyl)diazenyl].
P-20-0078A | 6 | 01/07/2021 | Ascend Performance Materials | (G) Stabilizer for industrial applications | (G) Dicarboxylic acid, compd. with aminoalkyl-alkyldiamine alkyldioate alkyldioate (1:2:1:1).
P-20-0079A | 6 | 01/07/2021 | Ascend Performance Materials | (G) Stabilizer for industrial applications | (G) Dicarboxylic acid, compd. with aminoalkyl-alkyldiamine (3:2).
P-20-0080A | 8 | 12/28/2020 | Ascend Performance Materials | (G) Stabilizer for industrial applications | (G) Alkyldiamine, aminoalkyl-, hydrochloride (1:3).
P-20-0080A | 9 | 01/07/2021 | Ascend Performance Materials | (G) Stabilizer for industrial applications | (G) Alkyldiamine, aminoalkyl-, hydrochloride (1:3).
P-20-0081A | 8 | 12/28/2020 | Ascend Performance Materials | (G) A stabilizer for industrial applications | (G) Carboxylic acid, compd. with aminoalkyl-alkyldiamine (3:1).
P-20-0081A | 9 | 01/07/2021 | Ascend Performance Materials | (G) A stabilizer for industrial applications | (G) Carboxylic acid, compd. with aminoalkyl-alkyldiamine (3:1).
P-20-0082A | 8 | 12/28/2020 | Ascend Performance Materials | (G) Stabilizer for industrial applications | (G) Alkyldiamine, aminoalkyl-, carboxylate (1:3).
P-20-0082A | 9 | 01/07/2021 | Ascend Performance Materials | (G) Stabilizer for industrial applications | (G) Alkyldiamine, aminoalkyl-, carboxylate (1:3).
P-20-0083A | 2 | 01/27/2021 | CBI | (G) Reactant monomer in a polymer for industrial use | (G) 2-propenoic acid, nitrogen-substituted alkyl, N-C16-18-acyl derivs.
P-20-0096A | 4 | 01/28/2021 | Solenis LLC | (G) Use in papermaking process | (G) Unsaturated dicarboxylic acid polymer with 2-(dialkylamino)alkyl-alkyl-alkanoate, N, N-dialkyl-alkene amide, 2-propenamide and salt of alkyl-substituted alkene sulfonate.
P-20-0097A | 4 | 01/06/2021 | Nelson Brothers, LLC | (S) The PMN substance will be used as an emulsifier for applications in explosives | (G) Butanedioic acid, monopolyisobutylene derivs., mixed dihydroxyalkyl and hydroxyalkoxyalkyl diesters.
P-20-0101A | 5 | 01/15/2021 | Allnex USA Inc. | (S) Coating Resin | (G) Alkanoic acid, hydroxy-(hydroxyalkyl)-alkyl-, polymer with alpha-[(hydroxyalkyl)alkyl]-omega-alkoxypoly(oxy-alkanediyl), (haloalkyl)oxiane polymer (alkylalkylidene)bis[hydroxy-carbomonocycle] alkenoate and isocyanate-alkyl-carbomonocycle, hydroxyalkyl acrylate-blocked.
P-20-0105A | 4 | 01/13/2021 | Sound Agriculture Company | (S) Maltol lactone is a compound that promotes microbial activity in the soil, resulting in increased availability of phosphorus for crops. This substance will be used on commercial farming operations | (S) 4H-Pyran-4-one, 3-[(2,5-dihydro-4-methyl-5-oxo-2-furanyl)oxy]-2-methyl-.
P-20-0107A | 4 | 01/13/2021 | CBI | (G) Crosslinking polymer | (G) Carbimide, polyalkylenepolyarylene ester, polymer with 1,2-alkanediol, 2-alkoxyalkyl methacrylate- and 3-(2-alkoxyalkyl)-2-heterocycle-blocked.
P-20-0121A | 2 | 01/25/2021 | CBI | (S) Chemical intermediate | (G) Imidic acid, alkyl ester, sulfate.
P-20-0123A | 2 | 01/25/2021 | CBI | (S) Binder | (G) Nitrogen-substituted heterocycle, homopolymer, N-(nitrogen-substituted alkyl) derivs., sulfates.
P-20-0136A | 2 | 01/18/2021 | Clariant Corporation | (S) Surface treatment compound for textiles | (G) Arylcarboxylic acid, alkyl ester, polymer with alkanediol, ester with methyloxirane polymer with oxirane alkyl ether.
P-20-0169A | 5 | 01/22/2021 | CBI | (G) Battery Plastics and coatings applications, conductive agent for conductive plastic and paint | (S) Multiwalled carbon nanotube.
P-20-0173A | 3 | 01/15/2021 | ICM Products Inc | (G) Use as a Coating Additive | (G) Silsesquioxanes, alkyl, alkoxy- and hydroxy-terminated.
P-21-0005 | 4 | 01/22/2021 | Evonik Corporation | (S) Polymeric additive in gear oils | (G) Carbonmonocyclic alkene polymer with alkyl alkenoate, alkyl alkenoate, alkyl alkenoate and polyalkyldiene alkenoate.
P-21-0006A | 3 | 01/19/2021 | CBI | (G) Froth flotation to treat rare earth minerals and to remove deleterious substances | (G) Naphthalene derivative.
P-21-0010A | 4 | 01/07/2021 | Evonik Degussa Corporation | (S) 3D Printing | (S) 1,3-Benzenedicarboxylic acid, polymer with 2,2-dimethyl-1,3-propanediol, 1,2-ethanediol, 2-ethyl-2-(hydroxymethyl)- 1,3-propanediol, hexanedioic acid, 1,6-hexanediol and 1,3-isobenzofurandione, N-[[1,3,3-trimethyl-5-[[[2-[(1-oxo-2- propen-1-yl)oxy]ethoxy]carbonyl]amino]cyclohexyl]methyl]carbamate N-[3,3,5-trimethyl-5-[[[[2-[(1-oxo-2-propen-1-yl)oxy]ethoxy]carbonyl]amino]methyl]cyclohexyl]carbamate.
P-21-0012A | 2 | 01/12/2021 | CBI | (G) The notified substance will be used as a fragrance ingredient | (G) Multialkylbicycloalkenyl substituted propanenitrile.
P-21-0012A | 3 | 01/21/2021 | CBI | (G) The notified substance will be used as a fragrance ingredient | (G) Multialkylbicycloalkenyl substituted propanenitrile.
P-21-0020 | 3 | 01/22/2021 | Allnex USA Inc | (S) Modifier for hardness development in paint formulations for metal applications | (G) Alkanedioic acid, dialkyl ester, polymer with dialkyl-alkanediol, alkyl(substituted alkyl)-alkanediol and heteropolycycle.
P-21-0021A | 5 | 01/11/2021 | J6 Polymers | (S) Raw material to be blending into R-side components of the polyurethane and polyisocyanurate industry. Specifically used in slabstock/bunstock processing of foam | (S) Soybean oil, mixed esters with diethylene glycol, phthalic acid and terephthalic acid.
P-21-0034 | 3 | 01/06/2021 | Evonik Degussa Corporation | (S) Crosslinker for automotive coatings, wood and plastic coatings | (G) Carbamic acid, N-[3-(trialkoxysilyl)propyl]-, C,C'-[2,2,4(or 2,4,4)-trimethyl-1,6-hexanediyl] ester.
P-21-0035 | 3 | 01/06/2021 | Evonik Degussa Corporation | (S) Crosslinker for automotive coatings, wood and plastic coatings | (G) Carbamic acid, N-[3-(trialkoxysilyl)propyl]-, C,C'-[2,2,4(or 2,4,4)-trimethyl-1,6-hexanediyl] ester.
P-21-0043A | 2 | 01/05/2021 | Advanced Polymer Coatings | (S) Component in protective coatings that provides chemical resistance | (G) Glycidyl ether of (formaldehyde, polymer with mixed phenols).
P-21-0043A | 3 | 01/08/2021 | Advanced Polymer Coatings | (S) Component in protective coatings that provides chemical resistance | (G) Glycidyl ether of (formaldehyde, polymer with mixed phenols).
P-21-0051 | 2 | 01/12/2021 | Designer Molecules, Inc | (G) Resin component of an adhesive formulation | (S) Fatty Acids, C18-unsatd., dimers, hydrogenated, polymers with 2-hydroxyethyl-terminated hydrogenated polybutadiene, bis(2,5-dihydro-2,5-dioxo-1H-pyrrole-1-hexanoate).
P-21-0052 | 2 | 01/04/2021 | CBI | (G) The notified substance will be used as a fragrance ingredient | (G) alkoxy-alkyl-octadiene; alkoxy-alkyl-octadiene.
P-21-0053 | 2 | 01/04/2021 | CBI | (G) The notified substance will be used as a fragrance ingredient | (G) (multialkyl substituted-cycloalkenyl)-methyl-pentenone; (multialkyl substituted-cycloalkenyl)-methyl-pentenone.
P-21-0054 | 3 | 01/08/2021 | CBI | (G) Carpet treatment additive | (G) 2-Propenoic acid, 2-methyl-, aminoalkyl ester, polymer with hydroxyalkyl alkenoate and octadecyl alkenoate, acetate (salts).
P-21-0056 | 2 | 01/15/2021 | CBI | (G) Component of coatings | (G) Isocyanic acid, polyalkylenepolyarylene ester, polymer with alkyl-hydroxyalkyl-alkanediol, alkoxyalcohol and alkoxylalkoxyalcohol-blocked.
P-21-0057 | 2 | 01/21/2021 | CBI | (G) Component in coatings | (G) Sulfur based acid, compound with aminoalkylalkyl-aminoalkylalkoxy-polyoxyalkylalkanediyl, polymer with haloalkyl-epoxide and alkylalkylidene-cycloarylalcohol.
P-21-0058 | 2 | 01/21/2021 | CBI | (G) Component in coatings | (G) Substituted alkanoic acid, compound with aminoalkylalkyl-aminoalkylalkoxy-polyoxyalkylalkanediyl, polymer with haloalkyl-epoxide and alkylalkylidene-cycloarylalcohol.
P-21-0060 | 2 | 01/21/2021 | CBI | (G) Isolated intermediate | (G) Bisphenol A epichlorohydrin polymer with alkylpolyalkene-polyarylene-hydroxypolyoxyalkyldiyl reaction products with alkylalkylidene-alkylalkylidene-aminoalkyl-alkanepolyamine and alkylaminoalkanol.
P-21-0061 | 2 | 01/21/2021 | CBI | (G) Component in coatings | (G) Sulfur based acid, compds. with modified bisphenol A-epichlorohydrin-polyalkylene polyol ether with bisphenol A polymer-N-dialkylalkylidene-N-(dialkylalklyidene)aminoalkyl-alkanepolyamine-alkylaminoalkanol reaction products.
P-21-0062 | 2 | 01/21/2021 | CBI | (G) Component in coatings | (G) Substituted-alkanoic acid, compds. with modified bisphenol A-epichlorohydrin-polyalkylene polyol ether with bisphenol A polymer-N-dialkylalkylidene-N-dialkylalkylideneaminoalkyl-alkanepolyamine-alkylaminoalkanol reaction products.
P-21-0063 | 1 | 01/05/2021 | CBI | (G) Component in herbicides | (G) Heterocyclic-polycarboxylic acid, polyhaloaryl-polyhydro-alkyl-polyalkyl ester.
P-21-0064 | 2 | 01/12/2021 | CBI | (G) Photolithography | (G) Sulfonium, triphenyl-, polyfluoro-polyhydrospiro[9H-carbopolycyclic-9,2'-[4,7]methano[1,3]benzodioxole]-5'-alkenesulfonic acid (1:1).
P-21-0065 | 2 | 01/26/2021 | Allnex USA Inc | (S) Improve the reactivity of ink formulation when cured under under LED UV light | (G) Alkenoic acid, reaction products with alkylamine-alkanediyl diacrylate polymer and [oxybis(alkylene)]bis[alkyl-alkanediol].
P-21-0067 | 1 | 01/14/2021 | Zymergen Inc | (G) Polymer used in the manufacture of films | (G) Arylfurandione, [bis(trihaloalkyl)alkylidene]bis-, polymer with alkanediamine.
P-21-0068 | 1 | 01/18/2021 | CBI | (G) Polymerization catalyst | (G) Metalloxanes, alkyl, alkyl group-terminated, reaction products with dihalo-dialkylalkylaryl-alkyl-polycyclic-ylidene(dialkylsilylene)-dialkylalkylaryl-alkylalkyl-polycyclic-ylidene, metal oxide and nonmetallic oxide.
P-21-0069 | 2 | 01/28/2021 | AltAir Paramount LLC | (S) Fuel | (S) Alkanes, C9-14-branched, cyclic and linear.
P-21-0070 | 2 | 01/28/2021 | AltAir Paramount LLC | (S) Fuel | (S) Alkanes, C4-8-branched and linear.
P-21-0073 | 1 | 01/21/2021 | Evonik Corporation | (S) Plasticizer in PVC articles like roofing membranes, flooring or coated fabrics | (S) 1,4-Cyclohexanedicarboxylic acid, 1,4-dinonyl ester, branched and linear (DINCD).
P-21-0074 | 1 | 01/21/2021 | Designer Molecules, Inc | (G) Resin component of an adhesive formulation | (S) 1,3-Butadiene, homopolymer, hydrogenated, 2-(ethenyloxy)ethyl-terminated.
P-21-0075 | 1 | 01/29/2021 | Allnex USA Inc | (S) Coating Resin | (G) Alkanoic acid, hydroxy-(hydroxyalkyl)-alkyl-, polymer with alpha-[(hydroxyalkyl)alkyl]-omega-alkoxypoly(oxy-alkanediyl), dialkyl carbonate, alkanediol, alkylene[isocyanato-carbomonocycle] and [oxybis(alkylene)]bis[alkyl-alkanediole] alkenoate, compd. with dialkyalkanamine.
SN-21-0001A | 3 | 12/29/2020 | CBI | (S) Chelating agent for use in hard surface cleaning (and disinfection), in laundry detergent | (S) Glycine, N-(carboxymethyl)-N-[2-[(carboxymethyl)amino]ethyl]-, sodium salt (1:3).
SN-21-0001A | 4 | 01/07/2021 | CBI | (S) Chelating agent for use in hard surface cleaning (and disinfection), in laundry detergent | (S) Glycine, N-(carboxymethyl)-N-[2-[(carboxymethyl)amino]ethyl]-, sodium salt (1:3).
SN-21-0001A | 5 | 01/18/2021 | CBI | (S) Chelating agent for use in hard surface cleaning (and disinfection), in laundry detergent | (S) Glycine, N-(carboxymethyl)-N-[2-[(carboxymethyl)amino]ethyl]-, sodium salt (1:3).
SN-21-0002 | 1 | 01/27/2021 | CBI | (G) Raw Material | (G) Aryl polyolefin.
* The term `Approved' indicates that a submission has passed a quick initial screen ensuring all required information and documents have been provided with the submission prior to the start of the 90 day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved * From 01/01/2021 to 01/31/2021
Case No. | Received date | Commencement date | If Amendment, type of amendment | Chemical substance
J-20-0003 | 01/19/2021 | 01/01/2021 | N | (G) Genetically modified microorganism.
J-20-0004 | 01/19/2021 | 12/23/2020 | N | (G) Genetically modified microorganism.
P-02-0202 | 01/12/2021 | 01/12/2021 | N | (S) 2,5-furandione, polymer with 1,2-ethanediol and 2,2′-oxybis(ethanol), mixed 2-ethylhexyl and 3a,4,5,6,7,7a-hexahydro-4,7-methano-1h-inden-5 (or 6)-yl esters.
P-18-0029 | 01/28/2021 | 01/26/2021 | N | (G) Fatty acids and fatty acid unsatd., reaction products with ethyleneamines and maleic anhydride.
P-18-0036 | 01/14/2021 | 01/08/2021 | N | (S) Siloxanes and silicones, di-me, 3-[3-carboxy-2(or 3)-(octenyl)-1-oxopropoxy] propyl group terminated.
P-18-0065 | 01/05/2021 | 12/26/2020 | N | (S) 1,3-propanediamine, n1,n1-dimethyl-n3-(2,2,6,6-tetramethyl-4-piperidinyl)-.
P-18-0105 | 01/08/2021 | 12/21/2020 | N | (S) Phosphorous acid, triisotridecyl ester.
P-18-0264 | 01/15/2021 | 01/13/2021 | N | (G) Phosphonomethylated ether diamine.
P-18-0303 | 01/26/2021 | 01/16/2021 | N | (G) 2-propenoic acid, polymer with aliphatic cyclic epoxide.
P-19-0030 | 01/25/2021 | 01/05/2021 | N | (G) Triethanolamine modified phosphinicocarboxylates, sodium salts.
P-20-0024 | 01/19/2021 | 01/14/2021 | N | (G) Phenol-formaldehyde polymer with amino-oxirane copolymer and benzoates.
* The term `Approved' indicates that a submission has passed a quick initial screen ensuring all required information and documents have been provided with the submission.

In Table III of this unit, EPA provides the following information (to the extent such information is not subject to a CBI claim) on the test information that has been received during this time period: The EPA case number assigned to the test information; the date the test information was received by EPA, the type of test information submitted, and chemical substance identity.

Table III—Test Information Received From 01/01/2021 to 01/31/2021
Case No. | Received date | Type of test information | Chemical substance
P-14-0712 | 01/26/2021 | Quarterly PCDD/F Test of PMN Substance using EPA Test Method 8290A | (G) Plastics, wastes, pyrolyzed, bulk pyrolysate.
P-16-0543 | 01/25/2021 | Exposure Monitoring Report December 2020 | (G) Halogenophosphoric acid metal salt.
P-16-0543 | 01/25/2021 | Exposure Monitoring Report | (G) Halogenophosphoric acid metal salt.
P-16-0543A | 01/27/2021 | Exposure Monitoring Report November 2020 | (G) Halogenophosphoric acid metal salt.

If you are interested in information that is not included in these tables, you may contact EPA's technical information contact or general information contact as described under FOR FURTHER INFORMATION CONTACT to access additional non-CBI information that may be available.

Authority: 15 U.S.C. 2601 et seq.

Dated: February 16, 2021.
Pamela Myrick,
Director, Project Management and Operations Division, Office of Pollution Prevention and Toxics.

[FR Doc. 2021-03611 Filed 2-22-21; 8:45 am]

BILLING CODE 6560-50-P